DEPARTMENT OF DEFENSE

Department of the Air Force

[Docket ID USAF-2008-0053]

Privacy Act of 1974; System of Records

AGENCY: Department of the Air Force, DoD.

ACTION: Notice to Add a System of Records.

SUMMARY: The Department of the Air Force proposes to add a system of records to its inventory of record systems subject to the Privacy Act of 1974 (5 U.S.C. 552a), as amended.

DATES: The proposed action will be effective on January 29, 2009 unless comments are received that would result in a contrary determination.

ADDRESSES: Send comments to the Air Force Privacy Act Officer, Office of Warfighting Integration and Chief Information Officer, SAF/XCPPI, 1800 Air Force Pentagon, Washington, DC 20330-1800.

FOR FURTHER INFORMATION CONTACT: Mr. Kenneth Brodie at (703) 696-7557.

SUPPLEMENTARY INFORMATION: The Department of the Air Force's notices for systems of records subject to the Privacy Act of 1974 (5 U.S.C. 552a), as amended, have been published in the Federal Register and are available from the address above.

The proposed systems reports, as required by 5 U.S.C. 552a(r) of the Privacy Act, were submitted on December 17, 2008, to the House Committee on Oversight and Government Reform, the Senate Committee on Homeland Security and Governmental Affairs, and the Office of Management and Budget (OMB) pursuant to paragraph 4c of Appendix I to OMB Circular No. A-130, “Federal Agency Responsibilities for Maintaining Records About Individuals,” dated February 8, 1996, (February 20, 1996, 61 FR 6427).

Dated: December 18, 2008.
Morgan E. Frazier,
Alternate OSD Federal Register Liaison Officer, Department of Defense.

F032 AFCESA B

System Name:

Automated Civil Engineer System Records.

System Location:

Defense Information Systems Agency (DISA), Systems Management Center, Montgomery, 401 East Moore Drive, Bldg 857, Gunter AFB, AL 36114-3001;

Defense Information Systems Agency (DISA), PAC DECC, 1942 Gaffney Street, Bldg 475, Suite 200, Pearl Harbor, HI 96860-4582;

HQ U.S. Air Forces in Europe/A7RI, GEB 529 Room 104, 66877 Ramstein Flugplatz Germany.

Categories of individuals covered by the system:

Air Force military personnel, civilian, dependent and contractor personnel.

Categories of records in the system:

Include but not limited to individual's name, title (i.e., Mr., Mrs. or Ms.), Social Security Number (SSN), gender, date of birth, home and e-mail addresses, phone number, rank, and office symbol.

Authority for maintenance of the system:

10 U.S.C. 9832, Property accountability: Regulations; 10 U.S.C. 8013, Secretary of the Air Force; and E.O. 9397 (SSN).

Purpose(s):

To provide the Base Civil Engineer with the tools required to manage real property, housing and furnishings management. It provides accurate identification of military personnel assigned to military housing/dormitories. May be used by commanders and managers as a decision making tool for accountability of personnel living in these facilities during peace or wartime.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

The DoD “Blanket Routine Uses” published at the beginning of the Air Force's compilation of record system notices apply to this system.

Policies and practices for storing, retrieving, accessing, retaining, and disposing of records in the system:

Storage:

Electronic storage media.

Retrievability:

Individual's name and/or Social Security Number (SSN).

Safeguards:

Steps have been taken to limit the access to the Privacy data to only those users with the appropriate roles. Access to records is limited to persons responsible for servicing the record in performance of their official duties and who are properly screened and cleared for need-to-know. Access to the application is restricted by passwords which are changed periodically.

Retention and disposal:

Records are retained until no longer needed and then deleted from the database by erasing or degaussing.

System manager(s) and address:

Automated Civil Engineer System/IWIMS Program Manager, HQ AFCESA/CEOI, 139 Barnes Drive, Suite 1, Tyndall AFB, FL 32403-5319, 1-888-232-6328.

Notification procedure:

Individuals seeking to determine whether information about themselves is contained in this system should address written inquiries to the Automated Civil Engineer System/IWIMS Program Manager, HQ AFCESA/CEOI, 139 Barnes Drive, Suite 1, Tyndall AFB, FL 32403-5319.

Requests should contain full name, aliases, date and place of birth, Social Security Number (SSN), service number(s), or other information verifiable from the records.

Record access procedures:

Individuals seeking access to information about themselves contained in this system of records should address written inquiries to the Automated Civil Engineer System/IWIMS Program Manager, HQ AFCESA/CEOI, 139 Barnes Drive, Suite 1, Tyndall AFB, FL 32403-5319.

Requests should contain full name, aliases, date and place of birth, Social Security Number (SSN), service number(s), or other information verifiable from the records.

Contesting record procedures:

The Air Force rules for accessing records, for contesting contents and appealing initial agency determinations are published in Air Force Instruction 37-132; 32 CFR part 806b; or may be obtained from the system manager.

Record source categories:

From the individual.

Exemptions claimed for the system:

None.

[FR Doc. E8-30868 Filed 12-29-08; 8:45 am]

BILLING CODE 5001-06-P